DEPARTMENT OF TRANSPORTATION

Research and Special Programs Administration

Office of Hazardous Materials Safety; Notice of Application for Exemptions

AGENCY: Research and Special Programs Administration, DOT.

ACTION: List of applications for exemption.

SUMMARY: In accordance with the procedures governing the application for, and the processing of, exemptions from the Department of Transportation's Hazardous Material Regulations (49 CFR part 107, subpart B), notice is hereby given that the Office of Hazardous Materials Safety has received the application described herein. Each mode of transportation for which a particular exemption is requested is indicated by a number in the “Nature of Application” portion of the table below as follows: 1—Motor vehicle, 2—Rail freight, 3—Cargo vessel, 4—Cargo aircraft only, 5—Passenger-carrying aircraft.

DATES: Comments must be received on or before April 14, 2005.

Address Comments To: Record Center, Research and Special Programs Administration, U.S. Department of Transportation, Washington, DC 20590.

Comments should refer to the application number and be submitted in triplicate. If confirmation of receipt of comments is desired, include a self-addressed stamped postcard showing the exemption number.

FOR FURTHER INFORMATION CONTACT: Copies of the applications are available for inspection in the Records Center, Nassif Building, 400 7th Street, SW., Washington DC or at http://dms.dot.gov.

This notice of receipt of applications for modification of exemption is published in accordance with part 107 of the Federal hazardous materials transportation law (49 U.S.C. 5117(b); 49 CFR 1.53(b)).

Issued in Washington, DC, on March 9, 2005.
R. Ryan Posten,
Exemptions Program Officer, Office of Hazardous Materials Safety Exemptions & Approvals.

New Exemptions
Application No. | Docket No. | Applicant | Regulation(s) affected | Nature of exemption thereof
14149-N |  | Digital Wave Corporation, Englewood, CO | 49 CFR 180.205, 180.209 | To authorize the transportation in commerce of certain DOT-3AL seamless aluminum cylinders that have been alternatively ultrasonically retested for use in transporting Division 2.1, 2.2, 2.3 materials. (modes 1, 2, 4).
14150-N |  | Eli Lilly & Company, Indianapolis, IN | 49 CFR 177.834 | To authorize an alternative attendance method for cargo tanks during loading and unloading of Class 3 and 8 hazardous materials. (mode 1).
14151-N |  | ChevronTexaco, Houston, TX | 49 CFR 173.302 | To authorize the transportation in commerce of certain non-DOT specification cylinders for obtaining core samples of naturally occurring methane. (modes 1, 3).
14151-N |  | Saes Pure Gas, Inc, San Luis Obispo, CA | 49 CFR 173.187 | To authorize the transportation of certain quantities of metal catalyst, classed as Division 4.2, in non-DOT specification packaging that exceed the maximum net quantity allowed per package (mode 4).
14154-N |  | Careton Technologies, Inc. | 49 CFR 173.302a, 173.304a, 180.209 | To authorize the manufacture, marking and sale of non-DOT specification fully wrapped carbon fiber reinforced aluminum lined cylinders for shipment of certain Division 2.2 gases (modes 1, 2, 3, 4, 5).
14155-N |  | American Promotional Events, Inc., Florence, AL | 49 CFR 173.60 | To authorize the transportation in commerce of certain fireworks in non-DOT specification packagings when returned to the distributor (mode 1).
14156-N |  | Piper Metal Forming Corporation, New Albany, MS | 49 CFR 173.302a, 173.304a | To authorize the manufacture, marking, sale and use of non-DOT specification cylinders similar to DOT-3AL cylinders except the alloy used in 6069 grade. (modes 1, 2, 3, 4, 5).
14157-N |  | Worthington Cylinders of Canada Corp., Tilbury, Ontario N0P, 2L0 | 49 CFR 173.302a | To authorize the manufacture, marking, sell and use of non-DOT specification cylinders similar to DOT 3AA for use in transporting certain nonflammable gases. (modes 1, 4).
14158-N |  | UTC Fuel Cells, LLC, South Windsor, CT | 49 CFR 176.83 | To authorize the transportation by vessel of a fuel cell power plant containing hazardous materials that are not segregated as required by 49 CFR 176.83. (mode 3).
14159-N |  | ChevronTexaco, Richmond, CA | 49 CFR 173.187 | To authorize the one-time one-way transportation in commerce of 8 non-DOT specification cylinders containing a Division 4.2 material. (mode 1).
14162-N |  | BSCO Incorporated, Forest Hills, MD | 49 CFR 173.310(f) | To authorize the transportation in commerce of certain DOT specification cylinders for use in fire suppression systems containing Division 2.2 materials with an alternative thermal relief device. (modes 1, 3, 5).
14163-N |  | Air Liquide America L.P., Houston, TX | 49 CFR 173.301(g)(1)(ii) | To authorize the transportation in commerce of certain Division 2.2 materials in DOT specification cylinders that are manifolded and are not equipped with an individual shut off valve. (modes 1, 2, 3).
14164-N |  | Sigma-Aldrich Corporation, Milwaukee, WI | 49 CFR 173.181 | To authorize the transportation in commerce of non-DOT specification cylinders, similar to DOT 4B2 cylinders, containing Trimethylaluminum. (modes 1, 2, 3).
14166-N |  | Presidential Airways, Melbourne, FL | 49 CFR 172.101 Column (9B) | To authorize the transportation in commerce of certain Division 1.1, 1.2, 1.3 and 1.4 explosives which are forbidden or exceed quantities authorized for transportation by cargo aircraft only. (mode 4).
14167-N |  | Trinityrail, Dallas, TX | 49 CFR 173.26, 173.314(c), 179.13 and 179.100-12(c) | To authorize the manufacture, mark and sell DOT 105J600W specification tank cars having a maximum gross weight on rail of 286,000 in chlorine service. (mode 2).
14168-N |  | Matheson Tri-Gas, East Rutherford, NJ | 49 CFR 173.3(d) | To authorize the transportation in commerce of salvage cylinders by cargo vessel. (mode 3).

[FR Doc. 05-5031 Filed 3-14-05; 8:45 am]

BILLING CODE 4909-60-M